DEPARTMENT OF DEFENSE

Department of the Army

Notice of Intent To License Government-Owned Inventions; Intent To License Exclusively

AGENCY: Department of the Army, DoD.

ACTION: Notice.

SUMMARY: The inventions listed below are assigned to the United States Government as represented by the Secretary of the Army. The U.S. Army Edgewood Chemical Biological Center intends to license these inventions exclusively to Guild Associates, Inc., an Ohio Corporation with principal offices 5750 Shier-Rings Road Dublin, OH 43016. The inventions to be licensed are known as “Filtration Media and process for the Removal of Hazardous Material from Air Streams,” and “Zirconium Hydroxide for Decontaminating Toxic Agents.” The U.S. Patent Application serial numbers for these inventions are 12/914,334 filed on October 28, 2010 and 12/917,811 filed on November 2, 2010, respectively.

ADDRESSES: Requests for more information and/or objections should be directed to Eric McGill telephone: 410-436-8467, eric.s.mcgill@us.army.mil, U.S. Army Edgewood Chemical Biological Center (ECBC), AMSRD-ECB-PI-BP-TT, Bldg E3330/Rm 241 5183 Blackhawk Road, APG, MD 21010-5424. Any requests of objections should be made within 15 days of the publication of this notice.

FOR FURTHER INFORMATION CONTACT: Dhirajlal Parekh, Office of Research and Technology Applications, U.S. Army Edgewood Chemical Biological Center, AMSRD-ECB-PI-BP-TT, Bldg E3330/Rm 241 5183 Blackhawk Road, APG, MD 21010-5424, telephone: 410-436-8400, e-mail: dhirajlal.parekh@us.army.mil.

SUPPLEMENTARY INFORMATION: None.

Brenda S. Bowen,
Army Federal Register Liaison Officer.

[FR Doc. 2011-7618 Filed 3-30-11; 8:45 am]

BILLING CODE 3710-08-P